DEPARTMENT OF ENERGY

Federal Energy Regulatory Commission

Combined Notice of Filings #1

Take notice that the Commission received the following electric corporate filings:

Docket Numbers: EC22-72-000.

Applicants: NorthWestern Corporation.

Description: Application for Authorization Under Section 203 of the Federal Power Act of NorthWestern Corporation.

Filed Date: 6/2/22.

Accession Number: 20220602-5177.

Comment Date: 5 p.m. ET 6/23/22.

Take notice that the Commission received the following exempt wholesale generator filings:

Docket Numbers: EG22-135-000.

Applicants: Pisgah Ridge Solar LLC.

Description: Pisgah Ridge Solar LLC submits Notice of Self-Certification of Exempt Wholesale Generator Status.

Filed Date: 6/3/22.

Accession Number: 20220603-5039.

Comment Date: 5 p.m. ET 6/24/22.

Take notice that the Commission received the following electric rate filings:

Docket Numbers: ER10-1852-065; ER10-2641-041.

Applicants: Oleander Power Project, Limited Partnership, Florida Power & Light Company.

Description: Supplement to April 29, 2022 Notice of Change in Status of Florida Power & Light Company, et al.

Filed Date: 5/20/22.

Accession Number: 20220520-5182.

Comment Date: 5 p.m. ET 6/13/22.

Docket Numbers: ER22-834-003.

Applicants: PacifiCorp.

Description: Compliance filing: OATT Revised LGIP & SGIP Compliance Filing 6/3/2022 to be effective 4/1/2022.

Filed Date: 6/3/22.

Accession Number: 20220603-5154.

Comment Date: 5 p.m. ET 6/24/22.

Docket Numbers: ER22-1503-000; ER22-1505-000.

Applicants: WEB Silver Maple Wind, LLC, Pisgah Mountain, LLC.

Description: Amendment to March 30, 2022 Pisgah Mountain, LLC, et al. tariff filing.

Filed Date: 5/26/22.

Accession Number: 20220526-5182.

Comment Date: 5 p.m. ET 6/16/22.

Docket Numbers: ER22-1579-001.

Applicants: Midcontinent Independent System Operator, Inc.

Description: Tariff Amendment: 2022-06-02_Amendment to Electric Storage Resources Pre-Implementation Filing to be effective 6/6/2022.

Filed Date: 6/2/22.

Accession Number: 20220602-5165.

Comment Date: 5 p.m. ET 6/23/22.

Docket Numbers: ER22-2020-000.

Applicants: New York Independent System Operator, Inc., Niagara Mohawk Power Corporation.

Description: § 205(d) Rate Filing: New York Independent System Operator, Inc. submits tariff filing per 35.13(a)(2)(iii: 205: Joint NYISO NMPC Second Amended Restated SGIA 2591—SunEast Watkins Road to be effective 5/19/2022.

Filed Date: 6/3/22.

Accession Number: 20220603-5061.

Comment Date: 5 p.m. ET 6/24/22.

Docket Numbers: ER22-2021-000.

Applicants: ISO New England Inc., The United Illuminating Company.

Description: § 205(d) Rate Filing: ISO New England Inc. submits tariff filing per 35.13(a)(2)(iii: PTO AC; Rev to Att F to Correct Minor Errors & Update Name of PTO Versant Power to be effective 8/2/2022.

Filed Date: 6/3/22.

Accession Number: 20220603-5084.

Comment Date: 5 p.m. ET 6/24/22.

Docket Numbers: ER22-2022-000.

Applicants: Pacific Gas and Electric Company.

Description: § 205(d) Rate Filing: CCSF Revisions to Appendix G (SA 275) to be effective 7/12/2022.

Filed Date: 6/3/22.

Accession Number: 20220603-5089.

Comment Date: 5 p.m. ET 6/24/22.

Docket Numbers: ER22-2023-000.

Applicants: Alabama Power Company, Georgia Power Company, Mississippi Power Company.

Description: § 205(d) Rate Filing: Alabama Power Company submits tariff filing per 35.13(a)(2)(iii: Macon County Solar (Hybrid Project) LGIA Filing to be effective 5/22/2022.

Filed Date: 6/3/22.

Accession Number: 20220603-5092.

Comment Date: 5 p.m. ET 6/24/22.

Docket Numbers: ER22-2024-000.

Applicants: Duke Energy Florida, LLC.

Description: § 205(d) Rate Filing: DEF-FPL Rate Schedule No. 364 Export Agreement Concurrence to be effective 7/20/2022.

Filed Date: 6/3/22.

Accession Number: 20220603-5109.

Comment Date: 5 p.m. ET 6/24/22.

Docket Numbers: ER22-2025-000.

Applicants: Southern California Edison Company.

Description: § 205(d) Rate Filing: LA, Tule Hydropower Project WDT1794 (SA1179) to be effective 5/23/2022.

Filed Date: 6/3/22.

Accession Number: 20220603-5131.

Comment Date: 5 p.m. ET 6/24/22.

Docket Numbers: ER22-2026-000.

Applicants: PJM Interconnection, L.L.C.

Description: § 205(d) Rate Filing: Revisions to OA, Sch. 12 and RAA, Sch. 17 re: 1st Quarter 2022 Member Lists to be effective 3/31/2022.

Filed Date: 6/3/22.

Accession Number: 20220603-5140.

Comment Date: 5 p.m. ET 6/24/22.

Docket Numbers: ER22-2027-000.

Applicants: Appalachian Power Company.

Description: § 205(d) Rate Filing: Operations Agreement with KPCo to be effective 12/31/9998.

Filed Date: 6/3/22.

Accession Number: 20220603-5147.

Comment Date: 5 p.m. ET 6/24/22.

Docket Numbers: ER22-2028-000.

Applicants: SR Hazlehurst, LLC.

Description: Baseline eTariff Filing: Market-Based Rate Application to be effective 8/3/2022.

Filed Date: 6/3/22.

Accession Number: 20220603-5152.

Comment Date: 5 p.m. ET 6/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2022.
Kimberly D. Bose,
Secretary.

[FR Doc. 2022-12439 Filed 6-8-22; 8:45 am]

BILLING CODE 6717-01-P